DEPARTMENT OF TRANSPORTATION

Federal Aviation Administration

14 CFR Part 39

[Docket No. FAA-2015-4817; Directorate Identifier 2014-NM-115-AD]

RIN 2120-AA64

Airworthiness Directives; Airbus Airplanes

AGENCY: Federal Aviation Administration (FAA), DOT.

ACTION: Notice of proposed rulemaking (NPRM).

SUMMARY: We propose to supersede Airworthiness Directive (AD) 95-18-08, for all Airbus Model A300-600 series airplanes. AD 95-18-08 currently requires repetitive inspections to detect cracks in the bottom skin of the wing in the area of the cut out for the pylon rear attachment fitting, and repair if necessary. Since we issued AD 95-18-08, we received a report that updated fatigue and damage tolerance analyses and a fleet survey found that certain inspection thresholds and intervals must be reduced to allow more timely findings of cracking. This proposed AD would, for certain airplanes, reduce the compliance times for the inspections. We are proposing this AD to detect and correct such fatigue-related cracking, which could result in reduced structural integrity of the wing.

DATES: We must receive comments on this proposed AD by January 4, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-4817; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-4817; Directorate Identifier 2014-NM-115-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 29, 1995, we issued AD 95-18-08, Amendment 39-9355 (60 FR 47677, September 14, 1995). AD 95-18-08 requires actions intended to address an unsafe condition on all Airbus Model A300-600 series airplanes (which includes Airbus Model A300 C4-605R Variant F airplanes, Model A300 B4-622 airplanes, and Model A300 F4-622R airplanes that were added to the U.S. Type Certificate Data Sheet since issuance of AD 95-18-08).

Since we issued AD 95-18-08, Amendment 39-9355 (60 FR 47677, September 14, 1995), we received a report that updated fatigue and damage tolerance analyses and a fleet survey done to support a second extended service goal for Model A300-600 series airplanes found that certain inspection thresholds and intervals must be reduced to allow more timely findings of cracking.

The European Aviation Safety Agency (EASA), which is the Technical Agent for the Member States of the European Union, has issued EASA Airworthiness Directive 2014-0119, dated May 13, 2014 (referred to after this as the Mandatory Continuing Airworthiness Information, or “the MCAI”), to correct an unsafe condition on all Airbus Model A300 B4-600, B4-600R, and F4-600R series airplanes, and Model A300 C4-605R Variant F airplanes (collectively called Model A300-600 series airplanes). The MCAI states:

Full-scale fatigue tests carried out on the A300-600 test specimen by Airbus revealed crack initiation in the bottom skin adjacent to the aft pylon attachment fitting.

This condition, if not detected and corrected, could affect the structural integrity of the aeroplane.

To address this unsafe condition, DGAC [Direction Générale de l'Aviation Civile] France issued AD 94-069-158(B) (http://ad.easa.europa.eu/blob/1994069158tb_superseded.pdf/AD_F-1994-069-158_2) [which corresponds to FAA AD 95-18-08, Amendment 39-9355 (60 FR 47677, September 14, 1995)] to require repetitive detailed visual inspections (DVI) of the wing bottom skin in the area of the cut-out for the pylon rear attachment fitting on Left Hand (LH) and Right Hand (RH) wings [to detect cracks, and repair if necessary].

Since that [DGAC] AD was issued, a fleet survey and updated Fatigue and Damage Tolerance analyses have been performed in order to substantiate the second A300-600 Extended Service Goal (ESG2) exercise. As a result, it was revealed that the inspection threshold and interval must be reduced to allow timely detection of cracks and the accomplishment of an applicable corrective action. Prompted by these findings, Airbus issued Revision 07 of Service Bulletin (SB) A300-57-6028.

For the reasons described above, this [EASA] AD retains the requirements of DGAC France AD 94-069-158(B), which is superseded, but reduces the inspection thresholds and intervals [e.g., compliance times].

You may examine the MCAI in the AD docket on the Internet at http://www.regulations.gov by searching for and locating Docket No. FAA-2015-4817.

Related Service Information Under 1 CFR Part 51

We reviewed Airbus Service Bulletin A300-57-6028, Revision 07, dated June 6, 2011. The service information describes procedures for inspections to detect cracks in the bottom skin of the wing in the area of the cut out for the pylon rear attachment fitting, and repair. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 124 airplanes of U.S. registry.

The actions that are required by AD 95-18-08, Amendment 39-9355 (60 FR 47677, September 14, 1995), and retained in this proposed AD take about 6 work-hours per product, at an average labor rate of $85 per work-hour. Based on these figures, the estimated cost of the actions that are required by AD 95-18-08 is $510 per product.

In addition, we estimate that any necessary follow-on actions would take about 15 work-hours and require parts costing $10,000, for a cost of $11,275 per product. We have no way of determining the number of aircraft that might need these actions.

The new requirements of this proposed AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 95-18-08, Amendment 39-9355 (60 FR 47677, September 14, 1995), and adding the following new AD:

Airbus: Docket No. FAA-2015-4817; Directorate Identifier 2014-NM-115-AD.

(a) Comments Due Date

We must receive comments by January 4, 2016.

(b) Affected ADs

This AD replaces AD 95-18-08, Amendment 39-9355 (60 FR 47677, September 14, 1995).

(c) Applicability

This AD applies to the airplanes identified in paragraphs (c)(1) through (c)(4) of this AD, certificated in any category, all manufacturer serial numbers.

(1) Airbus Model A300 B4-601, B4-603, B4-620, and B4-622 airplanes.

(2) Airbus Model A300 B4-605R and B4-622R airplanes.

(3) Airbus Model A300 F4-605R and F4-622R airplanes.

(4) Airbus Model A300 C4-605R Variant F airplanes.

(d) Subject

Air Transport Association (ATA) of America Code 57, Wings.

(e) Reason

This AD was prompted by a report that updated fatigue and damage tolerance analyses and a fleet survey found that certain inspection thresholds and intervals must be reduced to allow more timely findings of cracking. We are issuing this AD to detect and correct such fatigue-related cracking, which could result in reduced structural integrity of the wing.

(f) Compliance

Comply with this AD within the compliance times specified, unless already done.

(g) Retained Inspection and Corrective Action With Additional Repair Information

This paragraph restates the requirements of paragraph (a) of AD 95-18-08, Amendment 39-9355 (60 FR 47677, September 14, 1995), with additional repair contact information. Prior to the accumulation of 24,000 total flight cycles since date of manufacture of the airplane, or within 750 flight cycles after October 16, 1995 (the effective date of AD 95-18-08), whichever occurs later, perform a detailed visual inspection to detect cracks in the bottom skin of the wing in the area of the cut out for the pylon rear attachment fitting, in accordance with Airbus Service Bulletin A300-57-6028, Revision 3, dated September 13, 1994. Repeat the inspection thereafter at intervals not to exceed 9,000 flight cycles. If any crack is detected, prior to further flight, repair the wing bottom skin in accordance with a method approved by the Manager, Standardization Branch, ANM-113, FAA, Transport Airplane Directorate, or the Manager, International Branch, ANM-116, Transport Airplane Directorate, FAA; or the European Aviation Safety Agency (EASA); or Airbus's EASA Design Organization Approval (DOA). Accomplishing any inspection required by paragraph (h) of this AD terminates the inspections required by this paragraph.

(h) New Requirement of This AD: Revised Inspection Thresholds and Intervals

Within the applicable compliance times required in paragraphs (h)(1) and (h)(2) of this AD, do a detailed visual inspection of the wing bottom skin in the area of the cut-out for the pylon rear attachment fitting on left-hand and right-hand wings, in accordance with the Accomplishment Instructions of Airbus Service Bulletin A300-57-6028, Revision 07, dated June 6, 2011. Repeat the inspections thereafter at the applicable intervals required in paragraphs (h)(3) and (h)(4) of this AD. Accomplishing any inspection required by this paragraph terminates the inspections required by paragraph (g) of this AD.

(1) For “normal range operations” airplanes having an average flight time of 1.5 flight hours or more: Do the inspection at the applicable time required in paragraphs (h)(1)(i) and (h)(1)(ii) of this AD.

(i) For Model A300 F4-605R and F4-622R airplanes: Do the inspection at the later of the times specified in paragraphs (h)(1)(i)(A) and (h)(1)(i)(B) of this AD.

(A) Within 24,000 flight cycles or 51,800 flight hours after first flight of the airplane, whichever occurs first.

(B) Within 2,000 flight cycles or 4,300 flight hours after the effective date of this AD, whichever occurs first.

(ii) For Model A300 B4-600, B4-600R, and Model A300 C4-605R Variant F airplanes: Do the inspection at the later of the times specified in paragraphs (h)(1)(ii)(A) and (h)(1)(ii)(B) of this AD.

(A) Within 19,100 flight cycles or 41,200 flight hours after first flight of the airplane, whichever occurs first.

(B) Within 1,500 flight cycles or 3,200 flight hours after the effective date of this AD, whichever occurs first.

(2) For “short range operations” airplanes having an average flight time of less than 1.5 flight hours: Do the inspection at the applicable time required in paragraphs (h)(2)(i) and (h)(2)(ii) of this AD.

(i) For Model A300 F4-605R and F4-622R airplanes: Do the inspection at the later of the times specified in paragraphs (h)(2)(i)(A) and (h)(2)(i)(B) of this AD.

(A) Within 25,900 flight cycles or 38,800 flight hours after first flight of the airplane, whichever occurs first.

(B) Within 2,100 flight cycles or 3,200 flight hours after the effective date of this AD, whichever occurs first.

(ii) For Model A300 B4-600, B4-600R, and Model A300 C4-605R Variant F airplanes: Do the inspection at the later of the times specified in paragraphs (h)(2)(ii)(A) and (h)(2)(ii)(B) of this AD.

(A) Within 20,600 flight cycles or 30,900 flight hours after first flight of the airplane, whichever occurs first.

(B) Within 1,600 flight cycles or 2,400 flight hours after the effective date of this AD, whichever occurs first.

(3) For “normal range operations” airplanes having an average flight time of 1.5 flight hours or more: Repeat the inspection at the applicable time required in paragraphs (h)(3)(i) and (h)(3)(ii) of this AD.

(i) For Model A300 F4-605R and F4-622R airplanes: Repeat the inspection thereafter at intervals not to exceed 9,000 flight cycles or 19,400 flight hours, whichever occurs first.

(ii) For Model A300 B4-600, B4-600R, and Model A300 C4-605R Variant F airplanes: Repeat the inspection thereafter at intervals not to exceed 7,100 flight cycles or 15,300 flight hours, whichever occurs first.

(4) For “short range operations” airplanes having an average flight time of less than 1.5 flight hours: Repeat the inspection at the applicable time required in paragraphs (h)(4)(i) and (h)(4)(ii) of this AD.

(i) For Model A300 F4-605R and F4-622R airplanes: Repeat the inspection thereafter at intervals not to exceed 9,700 flight cycles or 14,500 flight hours, whichever occurs first.

(ii) For Model A300 B4-600, B4-600R, and Model A300 C4-605R Variant F airplanes: Repeat the inspection thereafter at intervals not to exceed 7,600 flight cycles or 11,500 flight hours, whichever occurs first.

(i) Definition of Average Flight Time for Paragraph (h) of This AD

For the purpose of paragraph (h) of this AD, the Average Flight Time must be established as follows:

(1) For the initial inspection, the average flight time is the total accumulated flight hours, counted from take-off to touch-down, divided by the total accumulated flight cycles at the effective date of this AD.

(2) For the first repeated inspection interval, the average flight time is the total accumulated flight hours divided by the total accumulated flight cycles at the time of the inspection threshold.

(3) For all inspection intervals onwards, the average flight time is the flight hours divided by the flight cycles accumulated between the last two inspections.

(j) New Requirement of This AD: Corrective Action for Any Cracking Found

If any crack is found during any inspection required by paragraph (h) of this AD: Before further flight, repair using a method approved by the Manager, International Branch, ANM-116, Transport Airplane Directorate, FAA; or EASA; or Airbus's EASA DOA. Accomplishing a repair does not constitute terminating action for the repetitive inspections required by paragraph (h) of this AD.

(k) Credit for Previous Actions

This paragraph provides credit for inspections required by paragraph (h) of this AD, if those actions were performed before the effective date of this AD using any of the service information identified in paragraphs (k)(1), (k)(2), and (k)(3) of this AD, which are not incorporated by reference in this AD.

(1) Airbus Service Bulletin A300-57-6028, Revision 04, dated October 25, 1999.

(2) Airbus Service Bulletin A300-57-6028, Revision 05, dated January 11, 2002.

(3) Airbus Service Bulletin A300-57-6028, Revision 06, dated May 17, 2006.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 95-18-08, Amendment 39-9355 (60 FR 47677, September 14, 1995), are approved as AMOCs for the corresponding provisions of paragraph (g) of this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(m) Related Information

(1) Refer to Mandatory Continuing Airworthiness Information (MCAI) European Aviation Safety Agency Airworthiness Directive 2014-0119, dated May 13, 2014, for related information. This MCAI may be found in the AD docket on the Internet at http://www.regulations.gov by searching for and locating Docket No. FAA-2015-4817.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on November 11, 2015.
Michael Kaszycki,
Acting Manager, Transport Airplane Directorate, Aircraft Certification Service.

[FR Doc. 2015-29443 Filed 11-18-15; 8:45 am]

BILLING CODE 4910-13-P